DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 6, 2006.

Interested persons are invited to submit written comments regarding the subject matter of the investigations to the Director, Division of Trade Adjustment Assistance, at the address shown below, not later than March 6, 2006.

The petitions filed in this case are available for inspection at the Office of the Director, Division of Trade Adjustment Assistance, Employment and Training Administration, U.S. Department of Labor, Room C-5311, 200 Constitution Avenue, NW., Washington, DC 20210.

Signed at Washington, DC this 7th day of February 2006.
Erica R. Cantor,
Director, Division of Trade Adjustment Assistance.

Appendix
[TAA petitions instituted between 1/23/06 and 1/27/06]
TA-W | Subject firm (Petitioners) | Location | Date of institution | Date of petition
58685 | Delta Faucet Company, (Comp) | Chickasha, OK | 01/23/06 | 01/19/06
58686 | Signet Armorlite, Inc., (Comp) | San Marcos, CA | 01/23/06 | 01/20/06
58687 | Barry Controls, (State) | Camden, AR | 01/23/06 | 01/20/06
58688 | Novar Controls, (Comp) | Murfreesboro, TN | 01/23/06 | 01/20/06
58689 | LaSalle Labs, (Comp) | Little Falls, NY | 01/23/06 | 01/20/06
58690 | Weyerhaeuser, (State) | Wright City, OK | 01/23/06 | 01/20/06
58691 | Molding, Tooling and Design, Inc., (State) | Saco, ME | 01/24/06 | 01/13/06
58692 | Unique Balance, (IAM) | Dubuque, IA | 01/24/06 | 01/23/06
58693 | Lake County Greenhouse Corp., (Comp) | Crown Point, IN | 01/24/06 | 01/14/06
58694 | Doranco, (State) | Mansfield, MA | 01/24/06 | 01/20/06
58695 | American Truetzschler, Inc., (Comp) | Charlotte, NC | 01/24/06 | 01/13/06
58696 | Fingirs, (State) | Camarillo, CA | 01/24/06 | 01/03/06
58697 | Maxine Swim Group, (State) | Commerce, CA | 01/24/06 | 01/04/06
58698 | Andover Industries, (Wkrs) | Andover, OH | 01/24/06 | 12/30/06
58699 | B.A.G. Corporation, (Comp) | Sulphur Springs, TX | 01/24/06 | 01/13/06
58700 | Deutsch Engineered Connecting Devices, (Wkrs) | Hemet, CA | 01/24/06 | 01/23/06
58701 | Taylor Precision Products, (Comp) | Las Cruces, NM | 01/24/06 | 01/23/06
58702 | Kim Fai, Inc., (Wkrs) | San Francisco, CA | 01/25/06 | 01/19/06
58703 | TI Automotive, (Comp) | Marysville, MI | 01/25/06 | 01/23/06
58704 | Brunswick Bowling and Billards Corporation, (Comp) | Muskegon, MI | 01/25/06 | 01/23/06
58705 | Daisy Outdoor Products, (Wkrs) | Salem, MO | 01/25/06 | 01/20/06
58706 | Donaldson Company, (UAW) | Chillicothe, MO | 01/25/06 | 01/23/06
58707 | Zagora Gear Products, Inc., (Comp) | Charlotte, NC | 01/25/06 | 01/09/06
58708 | Cortina Fabrics, Inc., (Comp) | Swepsonville, NC | 01/25/06 | 01/09/06
58709 | Longwood Engineered Products, Inc., (Comp) | Norwich, CT | 01/25/06 | 01/24/06
58710 | Tyco Electronics, (Wkrs) | South Pasadena, CA | 01/25/06 | 01/20/06
58711 | Scholle Packaging, (Comp) | Rancho Dominguez, CA | 01/25/06 | 01/24/06
58712 | TRW, (Comp) | Jackson, MI | 01/25/06 | 01/18/06
58713 | A.T. Cross Company, (Comp) | Lincoln, RI | 01/25/06 | 01/24/06
58714 | Pine Island Sportswear, Ltd., (Comp) | Monroe, NC | 01/25/06 | 01/19/06
58715 | Interface Fabrics, (Comp) | East Douglas, MA | 01/25/06 | 01/20/06
58716 | IBM, (Wkrs) | Danville, KY | 01/25/06 | 01/24/06
58717 | GKN Sinter Metals, (Comp) | Owosso, MI | 01/25/06 | 01/16/06
58718 | Schoeller Arca Systems, (union) | Tacoma, WA | 01/25/06 | 01/24/06
58719 | Encore Group (The), (Comp) | Noble, OK | 01/25/06 | 01/25/06
58720 | Kentucky Derby Hosiery, Inc., (Wkrs) | Mount Airy, NC | 01/25/06 | 01/23/06
58721 | Federal Mogul, (IBEW) | Boyertown, PA | 01/25/06 | 01/25/06
58722 | Berger Company, (Wkrs) | Atchison, KS | 01/26/06 | 01/25/06
58723 | Elliott Turbo Machinery Co., (Wkrs) | Jeannette, PA | 01/26/06 | 01/16/06
58724 | Sanford North America, (State) | Santa Monica, CA | 01/26/06 | 01/25/06
58725 | Rutgers Organics Corporation, (Comp) | State College, PA | 01/26/06 | 01/26/06
58726 | Nelson Acquisition, LLC, (Wkrs) | Logansport, IN | 01/26/06 | 01/26/06
58727 | Hollister, (UAW) | Kirksville, MO | 01/26/06 | 01/25/06
58728 | U.S. Security Associates, (Wkrs) | Bath, PA | 01/26/06 | 01/20/06
58729 | York Casket, (Union) | Lynn, IN | 01/27/06 | 01/25/06
58730 | Nestle Waters North America, (Wkrs) | Brea, CA | 01/27/06 | 01/24/06
58731 | Hospital Specialty Company, (State) | Tempe, AZ | 01/27/06 | 01/25/06
58732 | Jesco Athletic Company, (Wkrs) | Williamsport, PA | 01/27/06 | 01/26/06
58733 | Invensys, (Wkrs) | Mansfield, OH | 01/27/06 | 01/26/06
58734 | Conflandey, Inc., (Wkrs) | Whiteville, NC | 01/27/06 | 01/26/06

[FR Doc. E6-2484 Filed 2-21-06; 8:45 am]

BILLING CODE 4510-30-P